AGENCY FOR INTERNATIONAL DEVELOPMENT

Privacy Act of 1974, System of Records

AGENCY: United States Agency for International Development.

ACTION: Deleted systems of records.

SUMMARY: The United States Agency for International Development (USAID) is issuing public notice for two deleted systems of records maintained in accordance with the Privacy Act of 1974, as amended at 5 U.S.C. 552a. This action is necessary to meet the requirements of the Privacy Act, 5 U.S.C. 522a(e)(4), to publish in the Federal Register notice of the existence and character of record systems maintained by the agency.

DATES: In accordance with 5 U.S.C. 522a(e)(4) and (11), the public is given a 30-day period in which to comment. Therefore, any comments must be received on or before March 10, 2014. Unless comments are received that would require a revision, this altered system of records will become effective on March 10, 2014.

ADDRESSES: You may submit comments:

Electronic

• Federal eRulemaking Portal: http://www.regulations.gov. Follow the instructions on the Web site for submitting comments.

• Email: privacy@usaid.gov.

Paper

• Fax: (703) 666-5670.

• Mail: Chief Privacy Officer, United States Agency for International Development, 2733 Crystal Drive, 11th Floor, Arlington, Va. 22202.

FOR FURTHER INFORMATION CONTACT: The USAID Privacy Office at United States Agency for International Development, 2733 Crystal Drive, 11th Floor, Arlington, VA 22202; or via email at privacy@usaid.gov.

SUPPLEMENTARY INFORMATION: USAID has recently conducted a review of system of records notices and has determined that the following two systems or records are covered by government-wide systems of records and the USAID systems of records will be deleted as detailed below: USAID-3 Employees Automated Records; and USAID-23 Employees' Equal Employment Opportunity Complaint Investigative Records.

Dated: January 15, 2014.
William Morgan,
Chief Information Security Officer and Chief Privacy Officer, U.S. Agency for International Development.

USAID-3

SYSTEM NAME:

Employees Automated Records.

Reason: USAID-3 Employees Automated Records is covered by several government-wide systems of records notices OPM/Govt-1 General Personnel Records (December 11, 2013, 77 FR 73694); OPM/Govt-2 Employee Performance File System of Records (June 19, 2006, 71 FR 35342, 35347); OPM/Govt-3 Records of Adverse Actions, Performance Based Reduction in Grade and Removal Actions, and Termination of Probationers (June 19, 2006, 71 FR 35342, 35350); OPM/Govt-5 Recruiting, Examining, and Placement Records (June 19, 2006, 71 FR 35342, 35351); OPM/Govt-7 Applicant Race, Sex, National Origin, and Disability Status Records (June 19, 2006, 71 FR 35342, 35356); and EEOC/Govt-1 Equal Employment Opportunity in the Federal Government Complaint and Appeal Records (July 30, 2002, 67 FR 49338, 49354, as amended April 6, 2006, 71 FR 24704, 24705). USAID-3 can therefore be deleted.

USAID-23

SYSTEM NAME:

Employees' Equal Employment Opportunity Complaint Investigative Records.

Reason: USAID-23 Employees' Equal Employment Opportunity Complaint Investigative Records is covered by the government-wide system of records notice EEOC/Govt-1 Equal Employment Opportunity in the Federal Government Complaint and Appeal Records (July 30, 2002, 67 FR 49354); and USAID-23 can therefore be deleted.

[FR Doc. 2014-02534 Filed 2-5-14; 8:45 am]

BILLING CODE P